DEPARTMENT OF TRANSPORTATION

Federal Aviation Administration

14 CFR Part 39

[Docket No. 2000-NM-41-AD; Amendment 39-12198; AD 2001-08-21]

RIN 2120-AA64

Airworthiness Directives; Lockheed Model L-1011-385 Series Airplanes

AGENCY: Federal Aviation Administration, DOT.

ACTION: Final rule.

SUMMARY: This amendment adopts a new airworthiness directive (AD), applicable to all Lockheed Model L-1011-385 series airplanes, that requires a visual inspection of the fuel level control switch, the fuel level control switch wiring harness, and the wiring harness conduit for damage, wear or chafing, broken or missing O-rings, or indications of electrical arcing. This amendment also requires replacement of a certain conduit in the fuel level control switch wiring harness, installation of electrical sleeving over the fuel level control switch wiring harness, and installation of the fuel level control switch which has been so modified. The actions specified by this AD are intended to prevent chafing of the fuel level control switch wiring harness, which could cause arcing and result in a fire in the fuel tank.

DATES: Effective June 1, 2001.

The incorporation by reference of certain publications listed in the regulations is approved by the Director of the Federal Register as of June 1, 2001.

ADDRESSES: The service information referenced in this AD may be obtained from Lockheed Martin Aircraft & Logistics Center, 120 Orion Street, Greenville, South Carolina 29605. This information may be examined at the Federal Aviation Administration (FAA), Transport Airplane Directorate, Rules Docket, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Tom Peters, Program Manager, ACE-116A, FAA, Atlanta Aircraft Certification Office, One Crown Center, 1895 Phoenix Boulevard, suite 450, Atlanta, Georgia 30349; telephone (770) 703-6063; fax (770) 703-6097.

SUPPLEMENTARY INFORMATION: A proposal to amend part 39 of the Federal Aviation Regulations (14 CFR part 39) to include an airworthiness directive (AD) that is applicable to all Lockheed Model L-1011-385 series airplanes was published in the Federal Register on October 19, 2000 (65 FR 62651). That action proposed to require a visual inspection of the fuel level control switch, the fuel level control switch wiring harness, and the wiring harness conduit for damage, wear or chafing, broken or missing O-rings, or indications of electrical arcing. This amendment also requires replacement of a certain conduit in the fuel level control switch wiring harness, installation of electrical sleeving over the fuel level control switch wiring harness, and installation of the fuel level control switch which has been so modified. Those actions are intended to prevent chafing of the fuel level control switch wiring harness, which could cause arcing and result in a fire in the fuel tank.

Comments Received

Interested persons have been afforded an opportunity to participate in the making of this amendment. Due consideration has been given to the comment received.

One commenter requests that the compliance time for the actions specified by the proposed AD be revised from “within 12 months after the effective date of this AD,” to “within 18 months after the effective date of this AD.” The commenter advises that special equipment to drain and vent the tanks and a specially trained crew are necessary to perform the actions specified in the proposed AD. The commenter advises further that the special equipment and trained crew are only available at a maintenance base. The commenter makes the case that by extending the compliance time to coordinate with the scheduled C-check (at 18-month intervals) the number of required fuel tank entries will be minimized, and therefore, the risk of damage to the tanks and the associated internal and external components will also be minimized.

The FAA agrees with the commenter for the reasons stated by the commenter and has revised the final rule accordingly. We consider that such a 6-month extension of the compliance time will not have an adverse effect of the safety of the fleet.

This same commenter also requests that requirements of paragraph (a) of the proposed rule be revised to clarify that not all conduits should be replaced with part number (P/N) 97590-121 conduits. The commenter points out that not all conduits can be replaced with a -121 conduit, as shapes and bends vary from conduit to conduit. The commenter notes that Lockheed Service Bulletin 093-28-094 (referenced in the NPRM as the appropriate service information) describes procedures for replacing only conduit having P/N 97590-103 with -121 conduit.

The FAA agrees with the request for the reasons stated by the commenter. We have revised the final rule by adding a new paragraph (b) to clarify that only conduit having P/N 97590-103 need to be replaced with the -121 conduit.

Conclusion

After careful review of the available data, including the comment noted above, the FAA has determined that air safety and the public interest require the adoption of the rule with the changes previously described. The FAA has determined that these changes will neither increase the economic burden on any operator nor increase the scope of the AD.

Cost Impact

There are approximately 235 Model L-1011-385 series airplanes of the affected design in the worldwide fleet. The FAA estimates that 117 airplanes of U.S. registry will be affected by this AD, that it will take approximately 19 work hours per airplane to accomplish the required inspection, and that the average labor rate is $60 per work hour. Required parts will cost approximately $200 per airplane. Based on these figures, the cost impact of the AD on U.S. operators is estimated to be $156,780, or $1,340 per airplane. hour.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-08-21 Lockheed: Amendment 39-12198. Docket 2000-NM-41-AD.

Applicability: All Model L-1011-385 series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent chafing of the fuel level control switch wiring harness, which could cause arcing and result in a fire in the fuel tank, accomplish the following:

Inspection, Replacement, and Installation

(a) Within 18 months after the effective date of this AD: Verify the part number (P/N) of the wiring harness conduit and perform a general visual inspection of the fuel level control switch, the fuel level control switch wiring harness, and the wiring harness conduit to detect any visible damage, any wear or chafing, broken or missing O-rings, or indications of electrical arcing, in accordance with the Accomplishment Instructions in Lockheed Service Bulletin 093-28-094, dated March 3, 2000.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(b) Prior to further flight after accomplishment of the requirements in paragraph (a) of this AD, accomplish the actions specified in paragraphs (b)(1) and (b)(2), as applicable; in accordance with the Accomplishment Instructions in Lockheed Service Bulletin 093-28-094, dated March 3, 2000.

(1) Install sleeving over each fuel level control switch wiring harness and install the modified fuel level control switch.

(2) If a conduit with P/N 97590-103 is installed, replace the conduit with one having P/N 97590-121, install sleeving over each fuel level control switch wiring harness, and install the modified fuel level control switch.

Alternative Methods of Compliance

(c) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 3: Information concerning the existence of approved alternative methods of compliance with this AD, if any, may be obtained from the Atlanta ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Lockheed Service Bulletin 093-28-094, dated March 3, 2000. This incorporation by reference was approved by the Director of the Federal Register in accordance with 5 U.S.C. 552(a) and 1 CFR part 51. Copies may be obtained from Lockheed Martin Aircraft & Logistics Center, 120 Orion Street, Greenville, South Carolina 29605. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Effective Date

(f) This amendment becomes effective on June 1, 2001.

Issued in Renton, Washington, on April 18, 2001.
Donald L. Riggin,
Acting Manager, Transport Airplane Directorate, Aircraft Certification Service.

[FR Doc. 01-10174 Filed 4-26-01; 8:45 am]

BILLING CODE 4910-13-P